DEPARTMENT OF VETERANS AFFAIRS

[OMB Control No. 2900-0546]

Agency Information Collection Activity Under OMB Review: Gravesite Reservation Questionnaire

AGENCY: National Cemetery Administration, Department of Veterans Affairs.

ACTION: Notice.

SUMMARY: In compliance with the Paperwork Reduction Act (PRA) of 1995, this notice announces that the National Cemetery Administration (NCA), Department of Veterans Affairs, will submit the collection of information abstracted below to the Office of Management and Budget (OMB) for review and comment. The PRA submission describes the nature of the information collection and its expected cost and burden; it includes the actual data collection instrument.

DATES: Comments must be submitted on or before July 31, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0546 in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0546.”

SUPPLEMENTARY INFORMATION: Authority: 44 U.S.C. 3501-3521.

Title: Gravesite Reservation Questionnaire (2-year).

OMB Control Number: 2900-0546.

Type of Review: Revision of a currently approved collection.

Abstract: The information is needed to determine if individuals holding gravesite set-asides wish to retain their set-aside or their wish to relinquish it. An agency may not conduct or sponsor, and a person is not required to respond to a collection of information unless it displays a currently valid OMB control number. The Federal Register Notice with a 60-day comment period soliciting comments on this collection of information was published at Vol. 82, No. 74, Wednesday, April 19, 2017, page 18540.

Affected Public: Individual or House Holds.

Estimated Annual Burden: 4,166 hours.

Estimated Average Burden per Respondent: 10 minutes each.

Frequency of Response: One-time.

Estimated Number of Respondents: 25,000.

By direction of the Secretary.
Cynthia Harvey-Pryor,
Department Clearance Officer, Enterprise Records Service, Office of Quality and Compliance, Department of Veterans Affairs.

[FR Doc. 2017-13732 Filed 6-29-17; 8:45 am]

BILLING CODE 8320-01-P